DEPARTMENT OF AGRICULTURE

Animal and Plant Health Inspection Service

[Docket No. 04-085-2]

Monsanto Co. and Forage Genetics International; Availability of Petition and Environmental Assessment for Determination of Nonregulated Status for Alfalfa Genetically Engineered for Tolerance to the Herbicide Glyphosate

AGENCY: Animal and Plant Health Inspection Service, USDA.

ACTION: Notice; reopening of comment period.

SUMMARY: We are advising the public that the Animal and Plant Health Inspection Service is reopening the comment period for a petition from Monsanto Company and Forage Genetics International that seeks a determination of nonregulated status for alfalfa designated as events J101 and J163, which have been genetically engineered for tolerance to the herbicide glyphosate. The petition has been submitted in accordance with our regulations concerning the introduction of certain genetically engineered organisms and products. In accordance with those regulations, we are soliciting public comments on whether this alfalfa presents a plant pest risk. We are also making available for public comment an environmental assessment for the proposed determination of nonregulated status. This action will allow interested persons additional time to prepare and submit comments.

DATES: We will consider all comments we receive on or before February 17, 2005.

ADDRESSES: You may submit comments by any of the following methods:

• Postal Mail/Commercial Delivery: Please send four copies of your comment (an original and three copies) to Docket No. 04-085-1, Regulatory Analysis and Development, PPD, APHIS, Station 3C71, 4700 River Road Unit 118, Riverdale, MD 20737-1238. Please state that your comment refers to Docket No. 04-085-1.

• E-mail: Address your comment to regulations@aphis.usda.gov. Your comment must be contained in the body of your message; do not send attached files. Please include your name and address in your message and “Docket No. 04-085-1” on the subject line.

Reading Room: You may read the petition, the environmental assessment, and any comments that we receive on Docket No. 04-085-1 in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Dr. Virgil Meier, Biotechnology Regulatory Services, APHIS, 4700 River Road Unit 147, Riverdale, MD 20737-1236; (301) 734-3363. To obtain copies of the petition or the environmental assessment (EA), contact Ms. Terry Hampton at (301) 734-5715; e-mail: Terry.A.Hampton@aphis.usda.gov. The petition and the EA are also available on the Internet at http://www.aphis.usda.gov/brs/aphisdocs/04_11001p.pdf and http://www.aphis.usda.gov/brs/aphisdocs/04_11001p_ea.pdf.

SUPPLEMENTARY INFORMATION: On April 16, 2004, the Animal and Plant Health Inspection Service (APHIS) received a petition from Monsanto Company of St. Louis, MO, and Forage Genetics International of West Salem, WI (Monsanto/FGI), requesting a determination of nonregulated status under 7 CFR part 340 for alfalfa (Medicago sativa L.) designated as events J101 and J163, which have been genetically engineered for tolerance to the herbicide glyphosate. The Monsanto/FGI petition states that the subject alfalfa should not be regulated by APHIS because it does not present a plant pest risk.

In a notice published in the Federal Register on November 24, 2004 (69 FR 68300-68301, Docket No. 04-085-1), APHIS announced the receipt of the Monsanto/FGI petition and solicited comments on whether the subject alfalfa would present a plant pest risk. We solicited comments concerning our notice for 60 days, ending January 24, 2005.

We are reopening the comment period for an additional 2 weeks from the date of this notice to give interested parties additional time to submit comments. We will also consider all comments we received between the January 25, 2005 (the day after the close of the original comment period) and the date of this notice.

We are publishing this notice to inform the public that APHIS will accept written comments regarding the petition for a determination of nonregulated status from interested persons for a period of 14 days from the date of this notice. We are also soliciting written comments from interested persons on the environmental assessment (EA) prepared to examine any environmental impacts of the proposed determination for the subject alfalfa event. The petition and the EA and any comments received are available for public review, and copies of the petition and the EA are available as indicated in the FOR FURTHER INFORMATION CONTACT section of this notice.

After the comment period closes, APHIS will review the data submitted by the petitioner, all written comments received during the comment period, and any other relevant information. After reviewing and evaluating the comments on the petition and the EA and other data and information, APHIS will furnish a response to the petitioner, either approving the petition in whole or in part, or denying the petition. APHIS will then publish a notice in the Federal Register announcing the regulatory status of the Monsanto/FGI glyphosate-tolerant alfalfa events J101 and J163 and the availability of APHIS' written decision.

Authority: 7 U.S.C. 1622n and 7701-7772; 31 U.S.C. 9701; 7 CFR 2.22, 2.80, and 371.3.

Done in Washington, DC, this 28th day of January 2005.
Elizabeth E. Gaston,
Acting Administrator, Animal and Plant Health Inspection Service.

[FR Doc. E5-409 Filed 2-2-05; 8:45 am]

BILLING CODE 3410-34-P